DEPARTMENT OF VETERANS AFFAIRS

Veterans' Family, Caregiver and Survivor Advisory Committee; Notice of Meeting—Cancellation

The Department of Veterans Affairs (VA) gives notice under the Federal Advisory Committee Act, 5 U.S.C. ch. 10, that the Veterans' Family, Caregiver and Survivor Advisory Committee previously scheduled to be held on October 25-26, 2023, at The American Legion, 1608 K Street NW, 7th floor, Washington, DC 20006 has been cancelled. For more information, please contact Dr. Betty Moseley Brown, Designated Federal Officer at (210) 392-2505 or VHA12CSPFAC@va.gov.

Dated: October 3, 2023.
Jelessa M. Burney,
Federal Advisory Committee Management Officer.

[FR Doc. 2023-22303 Filed 10-5-23; 8:45 am]

BILLING CODE P